DEPARTMENT OF JUSTICE

[OMB Number 1110-0058]

Agency Information Collection Activities; Proposed eCollection eComments Requested; Extension of a Currently-Approved Collection; National Incident-Based Reporting System (NIBRS)

AGENCY: Federal Bureau of Investigation (FBI), Department of Justice (DOJ).

ACTION: 60-Day notice and request for comments.

SUMMARY: The DOJ, FBI, Criminal Justice Information Services (CJIS) Division, will be submitting the following information collection request to the Office of Management and Budget for review and approval in accordance with the Paperwork Reduction Act (PRA) of 1995.

DATES: Comments are encouraged and will be accepted for 60 days until September 28, 2020.

ADDRESSES: All comments, suggestions, or questions regarding additional information, to include obtaining a copy of the proposed information collection instrument with instructions, should be directed to Crime Statistics Management Unit Chief, Amy C. Blasher, FBI, CJIS Division, Module E-3, 1000 Custer Hollow Road, Clarksburg, West Virginia 26306.

SUPPLEMENTARY INFORMATION: Written comments and suggestions from the public and affected agencies concerning the proposed collection of information are encouraged. Your comments should address one or more of the following four points:

—Evaluate whether the proposed collection of information is necessary for the proper performance of the functions of the FBI, including whether the information will have practical utility;

—Evaluate the accuracy of the agency's estimate of the burden of the proposed collection of information, including the validity of the methodology and assumptions used;

—Evaluate whether, and if so, how the quality, utility, and clarity of the information to be collected can be enhanced; and

—Minimize the burden of the collection of information on those who are to respond, including through the use of appropriate automated, electronic, mechanical, or other technological collection techniques or other forms of information technology (e.g., permitting electronic submission of responses).

Overview of this information collection:

1 Type of Information Collection: Extension of a currently-approved collection

2 The Title of the Form/Collection: National Incident-Based Reporting System

3 The agency form number, if any, and the applicable component of the Department sponsoring the collection: The form number is 1110-0058. The applicable component within the DOJ is the CJIS Division in the FBI.

4 Affected public who will be asked or required to respond, as well as a brief abstract:

Primary: Federal, state, local, and tribal law enforcement agencies (LEAs).

Abstract: Under Title 28, United States Code, Section (§ ) 534(a) and (c); the USA Patriot Improvement and Reauthorization Act of 2005, Public Law 109-177 (March 9, 2006) H.R. 3199: Section 307 (e) Reporting of Cargo Theft; the William Wilberforce Trafficking Victims Protection Reauthorization Act of 2008; and the Matthew Shepard and James Byrd, Jr., Hate Crimes Prevention Act (2009), § 4708, this collection requests incident data from federal, state, local, and tribal LEAs in order for the FBI Uniform Crime Reporting (UCR) Program to serve as the national clearinghouse for the collection and dissemination of incident data and to release these statistics in the following publications: Crime in the United States, Hate Crime Statistics, Law Enforcement Officers Killed and Assaulted, and National Incident-Based Reporting System. The NIBRS is a data collection which allows LEAs to collect information on each crime occurrence. The FBI designed NIBRS to generate data as a byproduct of federal, state, and local automated records management systems (RMS). Currently, the NIBRS collects data on each incident and arrest within 28 crime categories comprised of 71 specific crimes called Group A offenses. For each of the offenses coming to the attention of law enforcement, various facts about the crime are collected. In addition to the Group A offenses, arrest data only are reported for 13 Group B offense categories. When reporting data via the traditional Summary Reporting System (SRS), LEAs tally the occurrences of eight Part I crimes.

The most significant difference between NIBRS and the traditional SRS is the degree of detail in reporting. The NIBRS is capable of producing more detailed, accurate, and meaningful information because data are collected about when and where crime takes place, what form it takes, and the characteristics of its victims and perpetrators. Although most of the general concepts for collecting, scoring, and reporting UCR data in SRS apply in NIBRS (e.g., jurisdictional rules), there are some important differences between the two data collection systems. The SRS employs the Hierarchy Rule, i.e., in a multiple-offense incident, only the most serious offense is reported, and only eight Part I offenses can be reported. The many advantages NIBRS has over SRS include, but are not limited to, reports every offense occurring during the incident; revised, expanded, and new offense definitions; more specificity in reporting and using offense and arrest data for 28 Group A offense categories encompassing 71 crimes; distinguishes between attempted and completed Group A crimes; provides crimes against society; includes victim-to-offender data, circumstance, drug-related offenses, offenders suspected use of drugs, and expanded computer crime; and provides updated reports tied directly to the original incident. The Group A offense categories include animal cruelty; arson; assault offenses; bribery; burglary/breaking and entering; commerce violations;* counterfeiting/forgery; destruction/damage/vandalism of property; drug/narcotic offenses; embezzlement; espionage;* extortion/blackmail; fraud offenses; fugitive offenses;* gambling offenses; homicide offenses; human trafficking; immigration violations;* kidnapping/abduction; larceny/theft offenses; motor vehicle theft; pornography/obscene material; prostitution offenses; robbery; sex offenses; stolen property offenses; treason;* and weapon law violations. The 13 Group B offense categories, for which only arrest data are collected, include bad checks; bond default;* curfew/loitering/vagrancy violations; disorderly conduct; driving under the influence; drunkenness; family offenses, nonviolent; federal resource violation;* liquor law violations; peeping tom; perjury;* trespass of real property; and all other offenses. (Offense categories followed by an asterisk (*) denote those reported by federal and tribal LEAs only.) Beginning in 2019, the NIBRS began collecting additional data values to capture information on domestic violence, cargo theft, and negligent manslaughter.

5 An estimate of the total number of respondents and the amount of time estimated for an average respondent to respond: The estimated number of LEAs submitting data to the UCR Program via NIBRS is 7,283. The FBI designed NIBRS to generate data as a byproduct of federal, state, and local automated RMS. Many LEAs have RMS capable of producing a myriad of statistics to meet their particular needs. LEAs forward only the data required by NIBRS to participate in the FBI UCR Program. Each month, it takes approximately two hours for an average respondent to respond, which is an annual burden of 24 hours. The two hours is the time required for a law enforcement agency's RMS to download the NIBRS data and send the information to the FBI.

6 An estimate of the total public burden (in hours) associated with the collection: The estimated annual public burden associated with the NIBRS data collection is 174,792 hours (7,283 LEAs × 24 hours annually = 174,792 total annual hours).

If additional information is required, contact: Melody Braswell, Department Clearance Officer, United States Department of Justice, Justice Management Division, Policy and Planning Staff, Two Constitution Square, 145 N Street NE, 3E.405A, Washington, DC 20530.

Dated: July 27, 2020.
Melody Braswell,
Department Clearance Officer for the PRA, U.S. Department of Justice.

[FR Doc. 2020-16540 Filed 7-29-20; 8:45 am]

BILLING CODE 4410-02-P